COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds to the Procurement List a commodity to be furnished by nonprofit agencies employing persons who are blind or have other severe disabilities, and deletes from the Procurement List commodities previously furnished by such agencies.

EFFECTIVE DATE: July 9, 2001.

ADDRESS: Committee for Purchase From People Who Are Blind or Severely Disabled, Jefferson Plaza 2, Suite 10800, 1421 Jefferson Davis Highway, Arlington, Virginia 22202-3259.

FOR FURTHER INFORMATION CONTACT: Patrick T. Mooney (703) 603-7740.

SUPPLEMENTARY INFORMATION: On September 22, 2000 and April 13 and 20 2001, the Committee for Purchase From People Who Are Blind or Severely Disabled published notices (65 FR 57313 and 66 FR 19137 and 20234) of proposed addition to and deletions from the Procurement List:

Addition

After consideration of the material presented to it concerning capability of qualified nonprofit agencies to provide the commodity and impact of the addition on the current or most recent contractors, the Committee has determined that the commodity listed below is suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the commodity to the Government.

2. The action will not have a severe economic impact on current contractors for the commodity.

3. The action will result in authorizing small entities to furnish the commodity to the Government.

4. There are no known regulatory alternatives which would accomplish the objectives of the Javits-Wagner-O'Day Act (41 U.S.C. 46-48c) in connection with the commodity proposed for addition to the Procurement List.

Accordingly, the following commodity is hereby added to the Procurement List:

Commodity

Tire Inflator Gage

4910-00-441-8685

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodity.

3. The action will result in authorizing small entities to furnish the commodity to the Government.

4. There are no known regulatory alternatives which would accomplish the objectives of the Javits-Wagner-O'Day Act (41 U.S.C. 46-48c) in connection with the commodity deleted from the Procurement List.

After consideration of the relevant matter presented, the Committee has determined that the commodities listed below are no longer suitable for procurement by the Federal Government under 41 U.S.C. 46-48c and 41 CFR 51-2.4. Accordingly, the following commodities are hereby deleted from the Procurement List:

Commodities

Bracket, Eye, Nonrotary

3040-01-240-4456

Aerosol Paint, Lacquer

8010-00-721-9487

8010-00-290-6984

8010-00-965-2389

8010-00-721-9479

8010-00-582-5382

8010-00-584-3150

8010-00-721-9747

8010-00-721-9744

8010-00-721-9752

8010-00-721-9751

8010-00-290-6983

8010-00-584-3149

8010-00-584-3154

8010-00-721-9742

8010-00-141-2952

Patrick T. Mooney,
Director, Pricing and Program Operations.

[FR Doc. 01-14506 Filed 6-7-01; 8:45 am]

BILLING CODE 6353-01-P